NATIONAL CREDIT UNION ADMINISTRATION

Notice of Change in Subject of Closed Meeting and Previously Held Meetings

The National Credit Union Administration Board determined that its business required the deletion of the following item from the closed meeting held on Wednesday, May 24, 2000.

1. Administrative Action under Section 206 of the Federal Credit Union Act. Closed pursuant to exemptions (7), (8), (9)(A)(ii), and (9)(B).

The Board voted two-to-one, Board Member Wheat voting no, that agency business required that this item be deleted from the closed agenda and that no earlier announcement of this change was possible.

The previously held meetings were scheduled as follows:

Time and Date: 10:00 a.m., Wednesday, May 24, 2000.

Place: Board Room, 7th Floor, Room 7047, 1775 Duke Street, Alexandria, VA 22314-3428.

Status: Open.

Matters Considered:

1. Request from a Federal Credit Union to Expand its Community Charter.

2. Final Rule: Amendment to Part 714, NCUA's Rules and Regulations, Leasing.

3. Final Rule: Amendments to Part 745, NCUA's Rules and Regulations, Share Insurance.

Recess: 11 a.m.

Time and Date: 11:30 a.m., Wednesday, May 24, 2000.

Place: Board Room, 7th Floor, Room 7047, 1775 Duke Street, Alexandria, VA 22314-3428

Status: Closed.

Matters Considered:

1. Four (4) Personnel Matters. Closed pursuant to exemptions (2) and (6).

FOR FURTHER INFORMATION CONTACT: Becky Baker, Secretary of the Board, Telephone (703) 518-6304.

Becky Baker,
Secretary of the Board

[FR Doc. 00-13587 Filed 5-25-00; 3:23 pm]

BILLING CODE 7435-01-M